AGENCY FOR INTERNATIONAL DEVELOPMENT

48 CFR Chapter 7

RIN 0412-AA86

Leave and Holidays for U.S. Personal Services Contractors, including Family and Medical Leave; Corrections

AGENCY: Agency for International Development.

ACTION: Correcting amendments; final rule.

SUMMARY: On October 16, 2020, the U.S. Agency for International Development (USAID) issued a final rule revising provisions of the AID Acquisition Regulation (AIDAR) that pertain to the General Provision contract clause 5, entitled “Leave and Holidays” for U.S. personal services contractors (USPSCs.) This document corrects typographical errors in the final rule by revising the text of clause 5, adding the effective dates in the titles of clauses 6 and 16, and revising the authority citation.

DATES: Effective January 6, 2021.

FOR FURTHER INFORMATION CONTACT: Richard E. Spencer, Procurement Analyst, by phone at 202-916-2629, or email at rspencer@usaid.gov. All communications regarding this rule must cite AIDAR RIN No. 0412-AA86.

SUPPLEMENTARY INFORMATION: USAID is correcting errors in the final rule entitled “Leave and Holidays for U.S. Personal Services Contractors, including Family and Medical Leave,” under AIDAR 48 CFR chapter 7, appendix D, which was published in the Federal Register on October 16, 2020 (85 FR 65734). This document corrects the following typographical errors in AIDAR appendix D. In section 12 clause 5, the title is revised to remove italics, and the last sentence of paragraph (a)(3) is revised because the final rule mistakenly included the word “either” twice, making the application of the sub-paragraphs (i) and (ii) illogical and impossible to apply. This document corrects the construction of this sentence in paragraph (a)(3) to ensure only one of the two sub-paragraphs (i) or (ii) may apply, and by using the matching terminology for “exceptional circumstances” that appears earlier in the paragraph. In the titles for clauses 6, “Differential and Allowances,” and 16, “Termination”, the effective dates missing from the final rule are inserted for each clause. Lastly, the final rule mistakenly included an instruction to add a parenthetical authority citation at the end, unnecessarily creating a double citation. This document instead revises the one authority citation that already exists. This document does not make any substantive changes to the final rule.

List of Subjects in 48 CFR Chapter 7, Appendix D

Government procurement.

Accordingly, 48 CFR chapter 7 is corrected by making the following amendments:

CHAPTER 7— AGENCY FOR INTERNATIONAL DEVELOPMENT

1. Amend appendix D to chapter 7 by:

a. In section 12:

i. In clause 5, by revising the clause heading, the last sentence in paragraph (a)(3) introductory text, paragraphs (a)(3)(i) and (ii); and

ii. In clauses 6 and 16, revising the clause headings; and

b. Revising the parenthetical authority citation at the end of the appendix.

The revisions read as follows:

Appendix D to Chapter 7—Direct USAID Contracts with a U.S. Citizen or a U.S. Resident Alien for Personal Services Abroad

* * * * *

12. General Provisions for a Contract With a U.S. Citizen or a U.S. Resident Alien for Personal Services Abroad

* * * * *

5. Leave and Holidays

[Insert the following clause in all USPSC contracts.]

Leave and Holidays (NOV 2020)

(a) * * *

(3) * * * Annual leave restored must be scheduled and used no later than the earlier of either—

(i) The end of the leave year two years after the date fixed by the approving official as the termination date of the exceptional circumstances beyond the contractor's control, which resulted in the forfeiture; or

(ii) The end of the contract.

* * * * *

6. Differentials and Allowances (NOV 2020)

* * * * *

16. Termination (NOV 2020)

* * * * *

(Authority: Sec. 621 of Pub. L. 87-195, 75 Stat. 445, (22 U.S.C. 2381) as amended; E.O. 12163, Sept. 29, 1979, 44 FR 56673; and 3 CFR 1979 Comp., p. 435)

Mark A. Walther,
Chief Acquisition Officer.

[FR Doc. 2020-28047 Filed 1-5-21; 8:45 am]

BILLING CODE 6116-01-P